DEPARTMENT OF ENERGY

Federal Energy Regulatory Commission

Combined Notice of Filings #1

Take notice that the Commission received the following electric corporate filings:

Docket Numbers: EC16-155-000.

Applicants: Odell Wind Farm, LLC, Algonquin Power (Odell Holdings) Inc., Odell SponsorCo, LLC, Odell Holdings, LLC, Enel Kansas, LLC.

Description: Application for Authorization Under Section 203 of the Federal Power Act for the Disposition of Jurisdictional Facilities, Request for Expedited Consideration and Confidential Treatment of Odell Wind Farm, LLC, et al.

Filed Date: 7/22/16.

Accession Number: 20160722-5116.

Comments Due: 5 p.m. ET 8/12/16.

Take notice that the Commission received the following electric rate filings:

Docket Numbers: ER10-3246-002; ER10-2475-006; ER10-2474-006.

Applicants: PacifiCorp, Nevada Power Company, Sierra Pacific Power Company.

Description: The BHE Renewables Companies submit tariff filing per 35.19a(b): Refund Report to be effective N/A.

Filed Date: 7/21/16.

Accession Number: 20160721-5130.

Comments Due: 5 p.m. ET 8/11/16.

Docket Numbers: ER14-1548-007.

Applicants: Copper Mountain Solar 3, LLC.

Description: Compliance Filing reflecting results of Commission determination with regard to horizontal market power analysis in the APS Triennial Proceeding of Copper Mountain Solar 3, LLC.

Filed Date: 10/15/14.

Accession Number: 20141015-5184.

Comments Due: 5 p.m. ET 8/1/16.

Docket Numbers: ER15-13-006.

Applicants: Transource Wisconsin, LLC.

Description: Compliance filing: Transource Wisconsin Formula Compliance Filing to be effective 12/1/2014.

Filed Date: 7/22/16.

Accession Number: 20160722-5074.

Comments Due: 5 p.m. ET 8/12/16.

Docket Numbers: ER16-1832-001.

Applicants: Entergy Louisiana, LLC.

Description: Tariff Amendment: ELL Nine Mile 6 Supplemental Reactive to be effective 8/1/2016.

Filed Date: 7/22/16.

Accession Number: 20160722-5082.

Comments Due: 5 p.m. ET 8/12/16.

Docket Numbers: ER16-2007-000.

Applicants: Saguaro Power Company, a Limited Partnership.

Description: Supplement to June 24, 2016 Saguaro Power Company, a Limited Partnership submits tariff filing.

Filed Date: 7/21/16.

Accession Number: 20160721-5129.

Comments Due: 5 p.m. ET 8/11/16.

Docket Numbers: ER16-2135-001.

Applicants: Terrapin Energy LLC.

Description: Tariff Amendment: Amendment to Application for MBR to be effective 9/1/2016.

Filed Date: 7/22/16.

Accession Number: 20160722-5136.

Comments Due: 5 p.m. ET 8/12/16.

Docket Numbers: ER16-2265-000.

Applicants: C.P. Crane LLC.

Description: § 205(d) Rate Filing: Reactive Rate Tariff to be effective 1/5/2016.

Filed Date: 7/22/16.

Accession Number: 20160722-5069.

Comments Due: 5 p.m. ET 8/12/16.

Docket Numbers: ER16-2266-000.

Applicants: Midcontinent Independent System Operator, Inc.

Description: § 205(d) Rate Filing: 2016-07-22_SA 2931 ATC-Wisconsin Power and Light E&P (J390) to be effective 7/23/2016.

Filed Date: 7/22/16.

Accession Number: 20160722-5081.

Comments Due: 5 p.m. ET 8/12/16.

Docket Numbers: ER16-2267-000.

Applicants: Southwestern Public Service Company.

Description: § 205(d) Rate Filing: SPS-RBEC-GSEC-649 0.1.0-NOC to be effective 9/21/2016.

Filed Date: 7/22/16.

Accession Number: 20160722-5094.

Comments Due: 5 p.m. ET 8/12/16.

Docket Numbers: ER16-2268-000.

Applicants: Arizona Public Service Company.

Description: Compliance filing: OATT Modification Pursuant to Order No. 827 to be effective 9/21/2016.

Filed Date: 7/22/16.

Accession Number: 20160722-5096.

Comments Due: 5 p.m. ET 8/12/16.

Docket Numbers: ER16-2269-000.

Applicants: Southern California Edison Company.

Description: § 205(d) Rate Filing: Amended LGIA Chevron Power Holdings Kern River Cogeneration Facility Project to be effective 7/23/2016.

Filed Date: 7/22/16.

Accession Number: 20160722-5098.

Comments Due: 5 p.m. ET 8/12/16.

Docket Numbers: ER16-2270-000.

Applicants: Pinetree Power-Tamworth, LLC.

Description: § 205(d) Rate Filing: Notice of Succession to be effective 9/21/2016.

Filed Date: 7/22/16.

Accession Number: 20160722-5139.

Comments Due: 5 p.m. ET 8/12/16.

Docket Numbers: ER16-2271-000.

Applicants: ENGIE Resources LLC.

Description: § 205(d) Rate Filing: Notice of Succession to be effective 9/21/2016.

Filed Date: 7/22/16.

Accession Number: 20160722-5143.

Comments Due: 5 p.m. ET 8/12/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 22, 2016.
Nathaniel J. Davis, Sr.,
Deputy Secretary.

[FR Doc. 2016-17877 Filed 7-27-16; 8:45 am]

BILLING CODE 6717-01-P